DEPARTMENT OF TRANSPORTATION

Surface Transportation Board

[STB Finance Docket No. 34705 (Sub-No. 1)]

Soo Line Railroad Company D/B/A Canadian Pacific Railway—Temporary Trackage Rights Exemption—BNSF Railway Company

BNSF Railway Company (BNSF) has agreed to grant temporary overhead trackage rights to expire on August 31, 2005, to Soo Line Railroad Company d/b/a Canadian Pacific Railway (CPR) over BNSF's rail line between Ardoch, ND, and Erskine, MN, as follows: (1) From Ardoch at BNSF milepost 24.5 to Grand Forks, ND, at BNSF milepost 0.0, (2) from Grand Forks at BNSF milepost 109.9 to Crookston Junction, MN, at BNSF milepost 80.9, and (3) from Crookston Junction at BNSF milepost 0.0 to Erskine at BNSF milepost 31.5, a total distance of approximately 84.6 miles.

The original temporary trackage rights granted in Soo Line Railroad Company D/B/A Canadian Pacific Railway—Temporary Trackage Rights Exemption—BNSF Railway Company, STB Finance Docket No. 34705 (STB served June 10, 2005), covered the same line, but are due to expire on July 31, 2005. The purpose of this transaction is to modify the temporary trackage rights exempted in STB Finance Docket No. 34705 to extend the expiration date from July 31, 2005, to August 31, 2005, because of delayed start-up of the maintenance project due to high water conditions.

The transaction is scheduled to be consummated on July 31, 2005. The modified temporary trackage rights will permit CPR to continue to bridge its train service while the main lines of its affiliated shortline railroad are out of service due to certain programmed track, roadbed and structural maintenance.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34705 (Sub-No. 1), must be filed with the Surface Transportation Board, 1925 K Street, NW., Washington, DC 20423-0001. In addition, a copy of each pleading must be served on Thanh G. Bui, 150 South Fifth Street, Suite 2300, Minneapolis, MN 55402.

Board decisions and notices are available on our Web site at http://www.stb.dot.gov.

Decided: July 25, 2005.
By the Board, David M. Konschnik, Director, Office of Proceedings.
Vernon A. Williams,
Secretary.

[FR Doc. 05-15008 Filed 7-28-05; 8:45 am]

BILLING CODE 4915-01-P